DEPARTMENT OF ENERGY

Federal Energy Regulatory Commission

[Docket No. ER00-1053-013, et al.]

Maine Public Service Company, et al. Electric Rate and Corporate Filings

March 15, 2005.

The following filings have been made with the Commission. The filings are listed in ascending order within each docket classification.

1. Maine Public Service Company

[Docket Nos. ER00-1053-013 and ER00-1052-001]

Take notice that on March 10, 2005, Maine Public Service Company submitted revision to its Open Access Transmission Tariff to implement an Agreement regarding Main Public Service Company's 2004 Informational Filing (Settlement Agreement).

Maine Public Service Company states that copies of the filing were served upon its jurisdictional customers, parties to the proceeding, parties to the Settlement Agreement in Docket No. ER00-1053 et al., Maine Public Utilities Commission and the Maine Public Advocate.

Comment Date: 5 p.m. Eastern Time on March 31, 2005.

2. Carolina Power & Light Company

[Docket Nos. ER01-1807-017 and ER01-2020-014]

Take notice that on March 11, 2005, Carolina Power & Light Company submitted a refund report pursuant to the Commission Order issued May 21, 2003 in Docket No. ER01-1807-005, et al., 103 FERC ¶ 61,209 (2003).

Carolina Power & Light Company states that copies of the filing were served upon the North Carolina Utilities Commission and the South Carolina Public Service Commission.

Comment Date: 5 p.m. Eastern Time on April 1, 2005.

3. PJM Interconnection, L.L.C.

[Docket No. ER04-893-003]

Take notice that on March 11, 2005, PJM Interconnection, L.L.C. (PJM) submitted a compliance filing pursuant to the Commission's letter order issued February 9, 2005 in Docket No. ER04-893-002.

PJM states that copies of the filing were served upon all parties on the official service list for Docket No. ER04-893 and on counsel for Commonwealth Edison Company and Batavia.

Comment Date: 5 p.m. Eastern Time on April 1, 2005.

4. American Electric Power Service Corporation

[Docket No. ER05-694-000]

Take notice that on March 11, 2005, American Electric Power Service Corporation (AEPSC) submitted for filing on behalf of its AEP Texas North Company affiliate, who was formerly known as West Texas Utilities Company, an amendment to the Interconnection Agreement between West Texas Utilities Company and Brazos Electric Power Company (Brazos) providing for the parties' installation of motor-operated switches in and near Brazos' McAdams Substation in Foard County, Texas. AEPSC requests an effective date of February 28, 2005.

AEPSC states that it has served copies of the filing on Brazos and the Public Utility Commission of Texas.

Comment Date: 5 p.m. Eastern Time on April 1, 2005.

5. Virginia Electric and Power Company

[Docket No. ER05-695-000]

Take notice that on March 11, 2005, Virginia Electric and Power Company (Dominion Virginia Power) tendered for filing an unexecuted Standard Large Generator Interconnection Agreement (LGIA) with Tenaska Virginia II Partners, L.P. (Tenaska) setting forth the terms and conditions governing the interconnection between Tenaska's generating facility and Dominion Virginia Power's transmission system. Dominion Virginia Power requested an effective date of May 11, 2005.

Dominion Virginia Power states that copies of the filing were served upon Tenaska and the Virginia State Corporation Commission.

Comment Date: 5 p.m. Eastern Time on April 1, 2005.

6. Entergy Services, Inc.,

[Docket No. ER05-696-000]

Take notice that on March 11, 2005, Entergy Services, Inc., on behalf of the Entergy Operating Companies, Entergy Arkansas, Inc., Entergy Gulf States, Inc., Entergy Louisiana, Inc., Entergy Mississippi, Inc., and Entergy New Orleans, Inc. (collectively Entergy), filed limited revisions to certain provisions of the System Agreement. Entergy requests an effective date of May 10, 2005.

Comment Date: 5 pm Eastern Time on April 1, 2005.

7. PJM Interconnection, L.L.C.

[Docket No. ER05-697-000]

Take notice that on March 11, 2005, PJM Interconnection, L.L.C. (PJM) submitted amendments to Schedule 2 of the PJM Open Access Transmission Tariff to incorporate the revenue requirements for Reactive Supply and Voltage Control From Generation Sources Service of CED Rock Springs, LLC (Rock Springs).

PJM requests a waiver of the Commission's notice requirements to permit an effective date of February 1, 2005 for First Revised Eighteenth Revised Sheet No. 230 and First Revised Tenth Revised Sheet No. 230A; and an effective date of February 16, 2005 for First Revised Eleventh Revised Sheet No. 230A.

PJM states that copies of this filing have been served on all PJM members, including Rock Springs, and each state electric utility regulatory commission in the PJM region.

Comment Date: 5 pm Eastern Time on April 1, 2005.

8. San Joaquin Cogen, L.L.C.

[Docket No. ER05-698-000]

Take notice that on March 11, 2005 San Joaquin Cogen, L.L.C. (San Joaquin) filed with the Federal Energy Regulatory Commission a request for authorization to sell electricity at market-based rates under its proposed market-based tariff. San Joaquin requests that the rate schedule become effective no later than April 15, 2005.

Comment Date: 5 pm Eastern Time on April 1, 2005.

9. Xcel Energy Services Inc.

[Docket No. ER05-699-000]

Take notice that on March 11, 2005, Xcel Energy Services Inc. (XES), as agent for Northern States Power Company (Minnesota) and Northern States Power Company (Wisconsin) (jointly, the NSP Companies), submitted: (1) Proposed amendments to certain grandfathered agreements (GFAs) subject to Rate Schedule Transmission Service Tm-1 contained in the NSP Electric Rate Book—Sales for Resale and Transmission Service; and (2) a new Schedule 12 to the Xcel Operating Companies' Joint Open Access Transmission Tariff, applicable to certain grandfathered network integration transmission service customers in the NSP Companies' pricing zone.

XES states that a copy of the filing has been served on each affected GFA customer.

Comment Date: 5 pm Eastern Time on April 1, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-1289 Filed 3-23-05; 8:45 am]

BILLING CODE 6717-01-P